DEPARTMENT OF THE INTERIOR

National Park Service

[NPS-WASO-NAGPRA-NPS0037403; PPWOCRADN0-PCU00RP14.R50000]

Notice of Intended Repatriation: State Historical Society of Wisconsin, Madison, WI

AGENCY: National Park Service, Interior.

ACTION: Notice.

SUMMARY: In accordance with the Native American Graves Protection and Repatriation Act (NAGPRA), the State Historical Society of Wisconsin intends to repatriate a certain cultural item that meets the definition of both a sacred object and an object of cultural patrimony and that has a cultural affiliation with the Indian Tribes or Native Hawaiian organizations in this notice.

DATES: Repatriation of the cultural item in this notice may occur on or after March 25, 2024.

ADDRESSES: Jacqueline Pozza Reisner, Curator of American Indian Collections, State Historical Society of Wisconsin, 204 S. Thornton Avenue, Madison, WI 53703, telephone (608) 263-3537, email 550acqueline.pozza@wisconsinhistory.org and nagpra@wisconsinhistory.org.

SUPPLEMENTARY INFORMATION: This notice is published as part of the National Park Service's administrative responsibilities under NAGPRA. The determinations in this notice are the sole responsibility of the State Historical Society of Wisconsin, and additional information on the determinations in this notice, including the results of consultation, can be found in the summary or related records. The National Park Service is not responsible for the determinations in this notice.

Abstract of Information Available

A total of one cultural item has been requested for repatriation. The one item that is both a sacred item and an object of cultural patrimony is a pipe bowl and stem that was removed an unknown location, probably in Wisconsin, possibly from Madeline Island. The State Historical Society of Wisconsin's documentation does not indicate the specific provenience nor provenance of this pipe and stem. The pipe and stem are housed at the Society's Madeline Island Museum, which was founded in 1958 by Bella and Leo Capser, who collected historical items of Madeline Island and of broader Native American communities. The Museum and the Capser's collections were donated to the State Historical Society on August 27, 1968 with legal control of its collections being turned over to the Society at that time. This 1968 agreement between Madeline Island Museum, Inc. and the State Historical Society of Wisconsin does not prohibit it from following federal mandates under NAGPRA. During this transfer, much of the documentation noting provenience and provenance of the Museum's holdings had been lost prior to that transfer. The collection was first cataloged by the Society in 1983. Much of the original provenience and provenance information is missing and is currently unknown.

The one sacred object/object of cultural patrimony is a pipe (bowl and stem) that was assigned the catalog number MI1983.237.356 by the Society. The bowl is made of catlinite and has lead inlay. The stem is carved out of wood to have a spiral shape and is painted with blue-green, yellow, and red pigments. An eagle and geometric figures are engraved on the stem. Four feathers are suspended from the pipe stem with strings of beads. The Society has no records indicating that this pipe and stem were exposed to any hazardous substances while in the Society's stewardship.

Through consultation, it has been determined that the pipe and stem are used in a multitude of contemporary ceremonies by traditional religious leaders. They are also traditionally owned by an entire Tribe and are passed onto caretakers. They are not individually owned and are important to maintaining cultural and religious practices of the Tribe.

Determinations

The State Historical Society of Wisconsin has determined that:

• The one object described in this notice is, according to the Native American traditional knowledge of an Indian Tribe or Native Hawaiian organization, a specific ceremonial object needed by a traditional Native American religious leader for present-day adherents to practice traditional Native American religion, and has ongoing historical, traditional, or cultural importance central to the Native American group, including any constituent sub-group (such as a band, clan, lineage, ceremonial society, or other subdivision).

• There is a reasonable connection between the cultural item described in this notice and the Bad River Band of the Lake Superior Tribe of Chippewa Indians of the Bad River Reservation, Wisconsin and the Red Cliff Band of Lake Superior Chippewa Indians of Wisconsin.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after March 25, 2024. If competing requests for repatriation are received, the State Historical Society of Wisconsin must determine the most appropriate requestor prior to repatriation. Requests for joint repatriation of the cultural item are considered a single request and not competing requests. The State Historical Society of Wisconsin is responsible for sending a copy of this notice to the Indian Tribes and Native Hawaiian organizations identified in this notice and to any other consulting parties.

Authority: Native American Graves Protection and Repatriation Act, 25 U.S.C. 3004 and the implementing regulations, 43 CFR 10.9.

Dated: February 9, 2024.
Melanie O'Brien,
Manager, National NAGPRA Program.

[FR Doc. 2024-03570 Filed 2-21-24; 8:45 am]

BILLING CODE 4312-52-P